DEPARTMENT OF HEALTH AND HUMAN SERVICES

Administration for Children and Families

[CFDA Numbers: 93.592, 93.136, 16.582]

Announcing the Award of a Single-Source Program Expansion Supplement Grant to the National Resources Center on Domestic Violence, Inc. (NRCDV) in Harrisburg, PA

AGENCY: Family and Youth Services Bureau, ACYF, ACF, HHS.

ACTION: Notice of the award of a single-source program expansion supplement grant of $686,000 under the Family Violence Prevention and Services Act (FVPSA) Technical Assistance (TA) Project to the National Resources Center on Domestic Violence, Inc. (NRCDV) to support training and technical assistance activities. This is a collaboration between the Department of Health and Human Services (HHS), Administration for Children and Families (ACF), Administration for Children, Youth and Families (ACYF), Family and Youth Services Bureau (FYSB), FVPSA; HHS/Centers for Disease Control and Prevention (CDC), National Center for Injury Prevention and Control (NCIPC), Division of Violence Prevention (DVP); and the Department of Justice (DOJ), Office of Victims of Crime (OVC).

SUMMARY: ACF/ACYF/FYSB/DFVPS, in collaboration with CDC/NIPC/DVP announce the award of $686,000 to NRCDV in Harrisburg, Pennsylvania. The grantee is a technical assistance (TA) provider that assists FVPSA service providers to build the capacity of domestic violence programs, continuums of care, homeless service providers, and housing service providers.

DATES: The period of support for the single-source program expansion supplement is September 30, 2015 through September 29, 2016.

FOR FURTHER INFORMATION CONTACT: Shawndell Dawson, Senior Program Specialist, Family Violence Prevention and Services Program, 330 C Street SW., Washington, DC 20201. Telephone: 202-205-1476; Email: Shawndell.Dawson@acf.hhs.gov.

SUPPLEMENTARY INFORMATION: Supplemental award funds will support the grantee in providing training and technical assistance (T/TA) to domestic violence service providers, continuums of care, homeless service providers, and housing service providers. In addition to the $250,000 from ACF/ACYF/FYSB/DFVPS, the supplemental award consists of $186,000 contributed by CDC/NIPC/DVP and $250,000 contributed by DOJ/OVC.

In accordance with an inter-agency agreement, the CDC/NIPC/DVP has provided national-level support and coordination for Intimate Partner Violence (IPV) prevention TA. In accordance with this inter-agency agreement, ACF/DFVPS has supplemented the T/TA cooperative agreement that funds the NRCDV through September 30, 2016. ACF and CDC staffs will meet regularly and facilitate ongoing communication to coordinate the delivery of national training and technical assistance.

This award will expand the scope of the NRCDV's TA assistance activities to include activities concerned with the prevention of IPV by: (1) Coordinating engagement with national-level partners, including foundations, for the purpose of enhancing communication related to IPV prevention; (2) engaging in planning to facilitate dialogue that will include the sharing of tools and lessons learned among state domestic violence coalitions engaged in IPV primary prevention efforts; (3) continuing to identify and disseminate information on lessons learned and key findings from state domestic violence coalitions that have implemented IPV primary prevention activities through www.PreventIPV.org, and other means; (4) maintaining a virtual workspace to assist in the sharing of resources among state and territorial domestic violence coalitions that are engaged in IPV primary prevention activities; and (5) facilitating regular, ongoing communication between the IPV Prevention Council, ACF/DFVPS and CDC/DVP.

In addition to the prevention activities, the grantee will coordinate national domestic violence, housing, and homelessness technical assistance by: (1) Providing comprehensive trauma-informed and culturally relevant TA for continuums of care, homeless service providers, housing service providers, domestic violence programs, and culturally specific community based organizations; (2) creating a virtual learning network for domestic violence programs and housing service providers; (3) documenting the housing needs, challenges, and best practice models of culturally specific and historically marginalized communities, including African American, Latina, Asian/Pacific Islander, and LGBTQ communities; (4) coordinating national webinars to raise awareness about best practices, research, and new resources; (5) developing factsheets, white papers, and/or a conceptual framework for meeting the housing needs of domestic violence survivors and their children.

In accordance with an inter-agency agreement, the DOJ/OVC has provided obligation authority for $250,000 to ACF/DFVPS to provide national-level support and coordination for domestic violence and housing TA. In accordance with this inter-agency agreement, ACF/DFVPS has supplemented the T/TA cooperative agreement that funds the NRCDV through September 30, 2016. DOJ/OVC and ACF/DFVPS staffs will meet regularly and facilitate ongoing communication to coordinate the delivery of national T/TA.

The solicited application underwent objective review by a federal panel that use criteria related to the project's approach, the organization's capacity, and the development of costs in the proposed budget.

Statutory Authority: Section 310 of the Family Violence Prevention and Services Act, as amended by Section 201 of the CAPTA Reauthorization Act of 2010, Public Law 111-320. The statutory authority for the additional funds from the Centers for Disease Control and Prevention is 42 U.S.C. 247b(k)(2) and 42 U.S.C. 280b-1 of the Public Health Service Act. The statutory authority for the additional funds from the Department of Justice (DOJ), Office for Victims of Crime (OVC), is 42 U.S.C. 10603(c)(1)(A), 42 U.S.C. 10603(c)(4), and 28 U.S.C. 530C. 42 U.S.C. 10603(c)(1)(A) authorizes the OVC Director to make grants for demonstration projects, program evaluation, compliance efforts, T/TA services.

Christopher Beach,
Senior Grants Policy Specialist, Division of Grants Policy, Office of Administration.

[FR Doc. 2016-08716 Filed 4-14-16; 8:45 am]

BILLING CODE 4184-32-P